DEPARTMENT OF AGRICULTURE

Forest Service

Moose Post Fire Project, Flathead National Forest, Flathead County, Montana

AGENCY: Forest Service, USDA.

ACTION: Notice; Intent to prepare environmental impact statement.

SUMMARY: The Forest Service will prepare an environmental impact statement (EIS) for a proposal to manage forest resources within and adjacent to the Moose Fire affected area, which burned 70,000 acres in August-September of 2001 (approximately 35,000 acres burned on lands administrated by the Forest Service). The project area is on the Glacier View Ranger District, Flathead National Forest, and is bordered on the east by Glacier National Park and the North Fork of the Flathead River, on the north by the Coal Creek State Forest, and on the west by the Whitefish Divide. The city of Columbia Falls, Montana is located about 10 air miles to the southeast.

DATES: Comments concerning the scope of the analysis should be received in writing on or before 30 days after publication of this notice in the Federal Register. The draft EIS is expected to be filed with the Environmental Protection Agency and made available for public review in May 2002. No date has yet been determined for filing the final EIS.

ADDRESSES: Send written comments to Jimmy DeHerrera, District Ranger, P.O. Box 190340, Hungry Horse, Montana 59919 or call (406) 387-3800.

FOR FURTHER INFORMATION CONTACT: Michele Draggoo, Planning Team Leader, (406) 387-3827.

SUPPLEMENTARY INFORMATION: The Moose Fire created a situation that is very favorable for the development of spruce beetle and Douglas-fir beetle epidemic conditions. The fire severely weakened or killed large numbers of spruce and Douglas-fir, and the beetles are well adapted to capitalize on such events. Spruce bark beetles were found in endemic levels prior to the fire and Douglas-fir bark beetles were building in several areas across the Flathead National Forest including in the vicinity of the Moose Fire area.

Beetle numbers can rapidly build when they are suddenly presented with abundant food and breeding habitat such as provided by the many acres of dead and stressed trees within the Moose Fire area. Once the adult beetles emerge from the fire stressed trees, they will search for the next nearest source of food. They are capable of flying about five miles in search of habitat, thus posing a very real threat to mature, larger diameter spruce and Douglas-fir trees outside the fire area.

Fire killed trees in the Moose Fire area have already started falling and will continue to come down over the next 15-20 years. This will result in extremely heavy fuel loads adjacent to private property and the administrative sites. If a fire does occur in these areas, the fuel accumulations, fuel continuity and profile would make the fire difficult to contain and control. A large high intensity fire would likely again threaten or burn private property, administrative sites and valuable forest resources.

Fire-killed trees also do not typically maintain their merchantability as wood products for more than 1 to 3 years, depending on their species and size. Sapwood staining, checking, woodborer damage, and decay will deleteriously affect volume after that time. Smaller diameter trees typically will not be merchantable within a year while larger diameter trees can retain their merchantability longer but will lose their value as wood products as time goes on. Removing an appropriate amount of fire-affected trees while considering ecological needs, before they lose their timber value and starting the reforestation process helps facilitate meeting desired conditions within the Moose Fire Project area.

The proposed action includes the following resource management activities: salvage trees that were burned on approximately 4300 to 5300 acres; use a combination of pheromone baiting, trap trees, and funnel trees to help address existing and future spruce bark beetle and Douglas-fir bark beetle concerns; and the reduce fuels in urban/interface and administrative site areas. Approximately 1000 acres are proposed for salvage in inventoried roadless lands. Planting conifer seedlings and making sure that best management practices would be maintained on roads used for the salvage would also be included in this project. Additionally, road access would be changed in two grizzly bear subunits to meet the Flathead Forest Plan's Amendment 19 ten-year goals and objectives, relative to grizzly bear security. Approximately 22 miles of open yearlong/seasonally open road would be restricted yearlong within the Werner Creek and Lower Big Creek grizzly bear subunits. Also, approximately 57 miles of road would be decommissioned in both grizzly bear subunits.

The purpose and need for the actions are to: decrease potential mortality cause by bark beetles to remaining live Douglas-fir and spruce trees within and outside the Moose fire are; recover merchantable wood fiber affected by the Moose Fire in timely manner to support local communities and contribute to the long-term yield of forest products; and to reduce future fire risk and hazard by reducing future fuel accumulations caused by the Moose Fire adjacent to private property or administrative sites.

This EIS will tier to the Flathead National Forest Land and Resource Management Plan and EIS of January 1986, and its subsequent amendments, which provide overall guidance for land management activities on the Flatheads National Forest.

Preliminary issues and concerns include effects of treatments on inventoried roadless lands, effects of treatments on riparian areas, effects of treatments on recreational motorized access, and effects of treatments on threatened/endangered species such as bull trout and grizzly bears.

The comment period on the draft environmental impact statement will be 45 days from the date the Environmental Protection Agency publishes the notice of availability in the Federal Register.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement (Reviewers may wish to refer to the Council on Environmental Quality Regulations for implementing the procedural provisions of the National Environmental Policy Act at 40 CFR 1503.3 in addressing these points).

The Responsible Official is the Forest Supervisor of the Flathead National Forest, 1935 3rd Avenue East, Kalispell, Montana 59901. The Forest Supervisor will make a decision regarding this proposal considering the comments and response, environmental consequences discussed in the final EIS, and applicable laws, regulations, and policies. The decision and rationale for the decision will be documented in a Record of Decision. That decision will be subject to appeal under applicable Forest Service regulations.

Dated: January 4, 2002.
Cathy Barbouletos,
Forest Supervisor—Flathead National Forest.

[FR Doc. 02-612 Filed 1-9-02; 8:45 am]

BILLING CODE 3410-11-M